DEPARTMENT OF THE TREASURY

Customs Service

Distribution of Continued Dumping and Subsidy Offset to Affected Domestic Producers

AGENCY: Customs Service, Department of the Treasury.

ACTION: Notice of intent to distribute offset for Fiscal Year 2001.

SUMMARY: Pursuant to the Continued Dumping and Subsidy Offset Act of 2000, this document is Customs notice of intention to distribute assessed antidumping or countervailing duties (known as the continued dumping and subsidy offset) for Fiscal Year 2001 in connection with certain antidumping duty orders or findings or countervailing duty orders that were not previously listed in the notice of intent to distribute the offset for Fiscal Year 2001 that was published in the Federal Register on August 3, 2001. This document sets forth those additional antidumping duty orders or findings and countervailing duty orders that were not previously listed, together with the affected domestic producers associated with each order or finding who are potentially eligible to receive a distribution. This document also provides the instructions for affected domestic producers to file written certifications to claim a distribution in relation to the listed orders or findings and the dollar amount of the offset for each order or finding that is available for distribution.

DATES: Written certifications to obtain a continued dumping and subsidy offset under a particular order or finding must be received by March 18, 2002.

ADDRESSES: Written certifications should be addressed to: Assistant Commissioner, Office of Regulations and Rulings, U.S. Customs Service, 1300 Pennsylvania Avenue, NW., 3rd Floor, Washington, DC 20229 (ATTN: Jeffrey J. Laxague).

FOR FURTHER INFORMATION CONTACT: Jeffrey J. Laxague, Office of Regulations and Rulings, (202-927-0505).

SUPPLEMENTARY INFORMATION:

Background

The Continued Dumping and Subsidy Offset Act of 2000 (“CDSOA”) was enacted on October 28, 2000, as part of the Agriculture, Rural Development, Food and Drug Administration, and Related Agencies Appropriations Act, 2001 (“Act”). The provisions of the CDSOA are contained in Title X (sections 1001—1003) of the Act.

The CDSOA, in section 1003 of the Act, amended Title VII of the Tariff Act of 1930, by adding a new section 754 (codified at 19 U.S.C. 1675c) in order to provide that assessed duties received pursuant to a countervailing duty order, an antidumping duty order, or an antidumping duty finding under the Antidumping Act of 1921, must be distributed to affected domestic producers for certain qualifying expenditures that these producers incur after the issuance of such an order or finding. The term “affected domestic producer” means any manufacturer, producer, farmer, rancher or worker representative (including associations of such persons) that—

(A) Was a petitioner or interested party in support of a petition with respect to which an antidumping order, a finding under the Antidumping Act of 1921, or a countervailing duty order has been entered, and

(B) Remains in operation.

The distribution that these parties may receive is known as the continued dumping and subsidy offset.

List of Orders or Findings and Affected Domestic Producers

It is the responsibility of the U.S. International Trade Commission (USITC) to ascertain and timely forward to Customs a list of the affected domestic producers that are potentially eligible to receive an offset in connection with an order or finding.

To this end, it is noted that the USITC previously supplied Customs with the list of individual antidumping and countervailing duty cases for Fiscal Year 2001, and the affected domestic producers associated with each case that were potentially eligible to receive an offset. These cases were the subject of a notice of intent to distribute the continued dumping and subsidy offset for Fiscal Year 2001 that was published in the Federal Register (66 FR 40782) on August 3, 2001.

However, a number of antidumping and countervailing duty cases were not included on the previously-supplied list of cases that were subject to a distribution of the continued dumping and subsidy offset for Fiscal Year 2001. Accordingly, this notice essentially constitutes a supplement to the August 3, 2001, Federal Register notice for the purpose of listing the additional antidumping duty orders or findings or countervailing duty orders that are subject to a distribution of the offset for Fiscal Year 2001.

Customs Regulations Implementing the CDSOA

It is noted that Customs published a final rule in the Federal Register (66 FR 48546) on September 21, 2001, as T.D. 01-68, which was effective as of that date, in order to implement the CDSOA. The final rule added a new subpart F to part 159 of the Customs Regulations (19 CFR part 159, subpart F (§§ 159.61-159.64)).

Notice of Intent to Distribute Offset

This document announces Customs intention to distribute to affected domestic producers the assessed antidumping or countervailing duties that were available for distribution in Fiscal Year 2001 in connection with those antidumping duty orders or findings or countervailing duty orders that are listed in this document. While § 159.62(a), Customs Regulations (19 CFR 159.62(a)), provides that Customs will publish a notice of intention to distribute assessed duties at least 90 days before the end of a fiscal year, this notice is being published at this time because it came to Customs attention that not all parties were listed in the original notice. In the future, it is not expected that supplemental notices of intent will be published.

Certifications; Submission and Content

To obtain a distribution of the offset under a given order or finding, an affected domestic producer must submit a certification to Customs, indicating that the producer desires to receive a distribution.

As required by § 159.62(b), Customs Regulations (19 CFR 159.62(b)), this notice provides the specific instructions for filing a certification under § 159.63 to claim a distribution. Also, as required by § 159.62(b), for purposes of determining whether it is worthwhile to file a certification in a given case, this notice includes the dollar amount for each listed order or finding that is available for distribution.

A successor to a company appearing on the list of affected domestic producers in this notice, or a member company of an association that appears on the list of affected domestic producers in this notice, where the member company does not appear on the list, should also consult § 159.61(b)(1)(i) or 159.61(b)(1)(ii), Customs Regulations, respectively (19 CFR 159.61(b)(1)(i) or 159.61(b)(1)(ii)), concerning whether and, if so, the additional procedures under which such party may file a certification to claim an offset.

Specifically, to obtain a distribution of the offset under a given order or finding, each affected domestic producer must timely submit a certification, in triplicate, to the Assistant Commissioner, Office of Regulations and Rulings, Headquarters, containing the required information detailed below as to the eligibility of the producer to receive the requested distribution and the total amount of the distribution that the producer is claiming. The certification must enumerate the qualifying expenditures incurred by the domestic producer since the issuance of an order or finding and it must demonstrate that the domestic producer is eligible to receive a distribution as an affected domestic producer.

As provided in § 159.63(b), Customs Regulations (19 CFR 159.63(b)), certifications to obtain a distribution of an offset must be received by Customs 60 days after the date of publication of the notice of intent in the Federal Register.

While there is no established format for a certification, the certification must contain the following information:

1. The date of this Federal Register notice;

2. The Commerce case number;

3. The case name (Product/country);

4. The name of the domestic producer and any name qualifier, if applicable (for example, any other name under which the domestic producer does business or is also known);

5. The address of the domestic producer (if a post office box, the secondary street address must also be included);

6. The Internal Revenue Service (IRS) number (with suffix) of the domestic producer, employer identification number, or social security number, as applicable;

7. The specific business organization of the domestic producer (corporation, partnership, sole proprietorship);

8. The name(s) of any individual(s) designated by the domestic producer as the contact person(s) concerning the certification, together with the phone number(s) and/or facsimile transmission number(s) and electronic mail (email) address(es) for the person(s);

9. The total dollar amount claimed;

10. The dollar amount claimed by category, as described in the section below entitled “Amount Claimed for Distribution';

11. A statement of eligibility, as described in the section below entitled “Eligibility to Receive Distribution'; and

12. A signature by a corporate officer legally authorized to bind the producer.

Amount Claimed for Distribution

In calculating the amount of the distribution being claimed as an offset, the certification must enumerate the total amount of qualifying expenditures certified by the domestic producer, and the amount certified by category.

Qualifying expenditures which may be offset by a distribution of assessed antidumping and countervailing duties encompass those expenditures that are incurred after the issuance of an antidumping duty order or finding or a countervailing duty order, and prior to its termination, provided that such expenditures fall within any of the following categories: (1) Manufacturing facilities; (2) Equipment; (3) Research and development; (4) Personnel training; (5) Acquisition of technology; (6) Health care benefits for employees paid for by the employer; (7) Pension benefits for employees paid for by the employer; (8) Environmental equipment, training, or technology; (9) Acquisition of raw materials and other inputs; and (10) Working capital or other funds needed to maintain production.

Additionally, these expenditures must be related to the production of the same product that is the subject of the order or finding, with the exception of expenses incurred by associations which must relate to a specific case (§ 159.61(c), Customs Regulations (19 CFR 159.61(c))).

Eligibility to Receive Distribution

As noted, the certification must contain a statement that the domestic producer desires to receive a distribution and is eligible to receive the distribution as an affected domestic producer.

Where a party is listed as an affected domestic producer on more than one order or finding covering the same product and files a separate certification for each order or finding using the same qualifying expenditures as the basis for distribution in each case, each certification must list all the other orders or findings where the producer is claiming the same qualifying expenditures (§ 159.63(b)(3)(ii), Customs Regulations (19 CFR 159.63(b)(3)(ii))).

Moreover, as required by 19 U.S.C. 1675c(b)(1) and § 159.63(b)(3)(iii), the statement must include information as to whether the domestic producer remains in operation and continues to produce the product covered by the particular order or finding under which the distribution is sought. If a domestic producer is no longer in operation, or no longer produces the product covered by the order or finding, the producer would not be considered an affected domestic producer entitled to receive a distribution.

In addition, as required by 19 U.S.C. 1675c(b)(5) and § 159.63(b)(3)(iii), the domestic producer must state whether it has been acquired by a company or business that is related to a company that opposed the antidumping or countervailing duty investigation that resulted in the order or finding under which the distribution is sought. If a domestic producer has been so acquired, the producer would again not be considered an affected domestic producer entitled to receive a distribution.

The certification must be executed and dated by a party legally authorized to bind the domestic producer and it must state that the information contained in the certification is true and accurate to the best of the certifier's knowledge and belief under penalty of law, and that the domestic producer has records to support the qualifying expenditures being claimed (see section below entitled “Verification of Certification”).

Review and Correction of Certification

A certification that is submitted in response to this notice of distribution may be reviewed before acceptance to ensure that all informational requirements are complied with and that any amounts set forth in the certification for qualifying expenditures, including the amount claimed for distribution, appear to be correct. A certification that is found to be materially incorrect or incomplete will be returned to the domestic producer, as provided in § 159.63(c), Customs Regulations (19 CFR 159.63(c)). It is the sole responsibility of the domestic producer to ensure that the certification is correct, complete and satisfactory so as to demonstrate the entitlement of the domestic producer to the distribution requested. Failure to ensure that the certification is correct, complete and satisfactory will result in the domestic producer not receiving a distribution.

Verification of Certification

Certifications are subject to Customs verification. Because of this, parties are required to maintain records supporting their claims for a period of three years after the filing of the certification (see § 159.63(d), Customs Regulations (19 CFR 159.63(d))). The records must be those that are normally kept in the ordinary course of business; these records must support each qualifying expenditure enumerated in the certification; and they must support how the qualifying expenditures are determined to be related to the production of the product covered by the order or finding.

Disclosure of Information in Certifications; Acceptance by Producer

The name of the affected domestic producer, the total dollar amount claimed by that party on the certification, as well as the total dollar amount that Customs actually disburses to that company as an offset, will be available for disclosure to the public, as specified in § 159.63(e), Customs Regulations (19 CFR 159.63(e)). To this extent, the submission of the certification is construed as an understanding and acceptance on the part of the domestic producer that this information will be disclosed to the public. Alternatively, a statement in a certification that this information is proprietary and exempt from disclosure will result in Customs rejection of the certification.

List of Orders or Findings and Related Domestic Producers

The list of individual antidumping duty orders or findings and countervailing duty orders is set forth below, together with the affected domestic producers associated with each order or finding that are potentially eligible to receive an offset. Also, the amount of the offset available for distribution with respect to each listed order or finding appears in parentheses immediately below the Commerce case number for the order or finding.

Commerce case number | Commission case number | Product/country | Petitioners/supporters
A-588-015, ($24,311,452.01) | AA 1921-66 | Television receivers/Japan | AGIV (U.S.A.); Casio Computer; CBM America; Citizen Watch; Funai Electric; Hitachi; Industrial Union; Department, AFL-CIO; Matsushita; Mitsubishi Electric; NEC; Orion Electric; J.C. Penney; Philips Electronics; Philips Magnavox; P.T. Imports; Sanyo; Sharp; Toshiba; Toshiba America Consumer; Products; Victor Company of Japan; Montgomery Ward; Zenith Electronics.
A-580-008, ($45,669.05) | 731-TA-134 | Color television receivers/Korea | Independent Radionic Workers of America; International Brotherhood of Electrical Workers; International Union of Electrical Radio and Machine Workers; Industrial Union Department, AFL-CIO; Committee to Preserve American Color Television (members were the 4 labor organizations identified above and Allied Industrial Workers of America, International Union; American Flint Glass Workers Union of North America; Communications Workers of America; Corning Glass Works; Glass Bottle Blowers' Association of the United States and Canada; International Association of Machinists; Owens-Illinois; United Furniture Workers of America; United Steelworkers of America; and Wells-Gardner Electronics).
A-583-009, ($1,025.82) | 731-TA-135 | Color television receivers/Taiwan | Independent Radionic Workers of America; International Brotherhood of Electrical Workers; International Union of Electrical, Radio and Machine Workers; Industrial Union Department, AFL-CIO; Committee to Preserve American Color Television (members were the 4 labor organizations identified above and Allied Industrial Workers of America, International Union; American Flint Glass Workers Union of North America; Communications Workers of America; Corning Glass Works; Glass Bottle Blowers' Association of the United States and Canada; International Association of Machinists; Owens-Illinois; United Furniture Workers of America; United Steelworkers of America; and Wells-Gardner Electronics).
A-122-006, ($13,533.77) | AA1921-49 | Steel jacks/Canada | No petition at the Commission; Commerce service list identifies: Bloomfield Manufacturing (formerly Harrah Manufacturing); Seaburn Metal Products.
A-588-029, ($65,301.74) | AA1921-85 | Fish netting of manmade fiber/Japan | No petition at the Commission; Commerce service list identifies: Jovanovich Supply; LFSI; Trans-Pacific Trading.
A-588-038, ($168,261.66) | AA1921-98 | Bicycle speedometers/Japan | No petition at the Commission; Commerce service list identifies: Avocet; Cat Eye; Diversified Products; N.S. International; Sanyo Electric; Stewart-Warner.
A-588-055, ($53.99) | AA1921-154 | Acrylic sheet/Japan | Polycas Technology.
C-351-037, ($2,471.93) | 104-TAA-21 | Cotton yarn/Brazil | Harriet & Henderson Yarns; LaFar Industries; American Yarn Spinners Association.
A-588-005, ($572.91) | 731-TA-48 | High power microwave amplifiers/Japan | Aydin; MCL.
A-122-401, ($256.98) | 731-TA-196 | Red raspberries/Canada | Rader Farms; Ron Roberts; Shuksan Frozen Food; Northwest Food Producers' Association; Oregon Caneberry Commission; Red Raspberry Member Group; Washington Red Raspberry Commission.
A-588-405, ($49,294.92) | 731-TA-207 | Cellular mobile telephones/Japan | E.F. Johnson; Motorola.
C-421-601, ($407.22) | 701-TA-278 | Fresh cut flowers/Netherlands | Burdette Coward; Gold Coast Uanko Nursery; Hollandia Wholesale Florist; Manatee Fruit; Monterey Flower Farms; Topstar Nursery; California Floral Council; Floral Trade Council; Florida Flower Association.
A-301-602, ($32,909.01) | 731-TA-329 | Fresh cut flowers/Colombia | Burdette Coward; Gold Coast Uanko Nursery; Hollandia Wholesale Florist; Manatee Fruit; Monterey Flower Farms; Topstar Nursery; California Floral Council; Floral Trade Council; Florida Flower Association.
A-331-602, ($385.01) | 731-TA-331 | Fresh cut flowers/Equador | Burdette Coward; Gold Coast Uanko Nursery; Hollandia Wholesale Florist; Manatee Fruit; Monterey Flower Farms; Topstar Nursery; California Floral Council; Floral Trade Council; Florida Flower Association.
A-201-601, ($24,291.74) | 731-TA-333 | Fresh cut flowers/Mexico | Burdette Coward; Gold Coast Uanko Nursery; Hollandia Wholesale Florist; Manatee Fruit; Monterey Flower Farms; Topstar Nursery; California Floral Council; Floral Trade Council; Florida Flower Association.
A-401-603, ($412.84) | 731-TA-354 | Stainless steel hollow products/Sweden | AL Tech Specialty Steel; Allegheny Ludlum Steel; ARMCO; Carpenter Technology; Crucible Materials; Damacus Tubular Products; Specialty Tubing Group.
A-508-604, ($376.92) | 731-TA-366 | Industrial phosphoric acid/Israel | Albright & Wilson; FMC; Hydrite Chemical; Monsanto; Stauffer Chemical.
A-588-802, ($8,407.02) | 731-TA389 | 3.5″ microdisks/Japan | Verbatim.
A-588-809, ($70,398.66) | 731-TA-426 | Small business telephone systems/Japan | American Telephone & Telegraph; Comdial; Eagle Telephonic.
A-583-806, ($10,079.58) | 731-TA-428 | Small business telephone systems/Taiwan | American Telephone & Telegraph; Comdial; Eagle Telephonic.
A-580-803, ($12,773.12) | 731-TA-427 | Small business telephone systems/Korea | American Telephone & Telegraph; Comdial; Eagle Telephonic.
A-570-811, ($957.34) | 731-TA-497 | Tungsten ore concentrates/China | Curtis Tungsten; U.S. Tungsten.
A-427-804, ($59,480.21) | 731-TA-553 | Hot-rolled lead & bismuth carbon steel products/France | Bethlehem Steel; Inland Steel Industries; USS/Kobe Steel.
C-427-805, ($11,868.38) | 701-TA-315 | Hot-rolled lead & bismuth carbon steel products/France | Bethlehem Steel; Inland Steel Industries; USS/Kobe Steel.

Dated: January 11, 2002.
Douglas M. Browning,
Acting Assistant Commissioner, Office of Regulations and Rulings.

[FR Doc. 02-1175 Filed 1-16-02; 8:45 am]

BILLING CODE 4820-02-P